DEPARTMENT OF EDUCATION

Arts in Education Model Development and Dissemination Program

AGENCY: Office of Innovation and Improvement, Department of Education.

ACTION: Notice of proposed priority, requirements, and definitions.

SUMMARY: The Assistant Deputy Secretary for Innovation and Improvement proposes a priority, requirements, and definitions under the Arts in Education Model Development and Dissemination program. We may use this priority and these requirements and definitions for competitions in fiscal year (FY) 2005 and later years. We take this action to focus Federal financial assistance on an identified national need for the enhancement, expansion, documentation, evaluation, and dissemination of innovative, cohesive models that have demonstrated that they effectively: (1) Integrate standards-based arts education into the core elementary and middle school curricula; (2) strengthen standards-based arts instruction in these grades; and (3) improve elementary and middle schools students' academic performance, including their skills in creating, performing, and responding to the arts. We intend the priority, requirements, and definitions to increase the amount of information on effective models for arts education that is available nationally and to integrate the arts with standards-based education programs.

DATES: We must receive your comments on or before February 14, 2005.

ADDRESSES: Address all comments about the proposed priority, requirements, and definitions to Diane Austin, U.S. Department of Education, 400 Maryland Avenue, SW., room 4W214, Washington, DC 20202-5943. If you prefer to send your comments through the Internet, use the following address: comments@ed.gov.

You must include the term “artsdemo” in the subject line of your electronic message.

FOR FURTHER INFORMATION CONTACT: Diane Austin. Telephone: (202) 260-1280 or via Internet: Diane.Austin@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding the proposed priority, requirements, and definitions in this notice. To ensure that your comments have maximum effect in developing the notice of final priority, requirements, and definitions, we urge you to identify clearly the specific proposed priority, requirement or definition that each comment addresses.

We invite you to assist us in complying with the specific requirements of Executive Order 12866 and its overall requirement of reducing regulatory burden that might result from the proposed priority, requirements, and definitions. Please let us know of any further opportunities we should take to reduce potential costs or increase potential benefits while preserving the effective and efficient administration of the program.

During and after the comment period, you may inspect all public comments about the proposed priority, requirements, and definitions in room 4W214, 400 Maryland Avenue, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for the proposed priority, requirements, and definitions. If you want to schedule an appointment for this type of aid, please contact the person listed under FOR FURTHER INFORMATION CONTACT.

We will announce the final priority, requirements, and definitions in a notice in the Federal Register. We will determine the final priority, requirements, and definitions after considering responses to this notice and other information available to the Department. This notice does not preclude us from proposing additional priorities, requirements, and definitions, subject to meeting applicable rulemaking requirements.

Note: This notice does not solicit applications. In any year in which we choose to use the priority, requirements, and definitions, we invite applications through a notice in the Federal Register. When inviting applications, we designate the priority as absolute, competitive preference, or invitational. The effect of each type of priority follows:

Absolute Priority: Under an absolute priority we consider only applications that meet the priority (34 CFR 75.105(c)(3)).

Competitive Preference Priority: Under a competitive preference priority we give competitive preference to an application by either (1) awarding additional points, depending on how well or the extent to which the application meets the priority (34 CFR 75.105(c)(2)(i)); or (2) selecting an application that meets the competitive priority over an application of comparable merit that does not meet the priority (34 CFR 75.105(c)(2)(ii)).

Invitational Priority: Under an invitational priority we are particularly interested in applications that meet the invitational priority. However, we do not give an application that meets the invitational priority a competitive or absolute preference over other applications (34 CFR 75.105(c)(1)).

Discussion of Proposed Priority, Requirements, and Definitions

This program supports the development of, and dissemination of information about, model school-based arts education programs.

Priority

Proposed Priority

We propose the following priority for this program:

This priority supports projects that enhance, expand, document, evaluate, and disseminate innovative cohesive models that are based on research and have demonstrated their effectiveness in (1) integrating standards-based arts education into the core elementary or middle school curriculum, (2) strengthening standards-based arts instruction in the elementary or middle school grades, and (3) improving the academic performance, including their skills in creating, performing, and responding to the arts, of students in elementary or middle school.

In order to meet this priority an applicant must demonstrate that the model project for which it seeks funding (1) serves only elementary schools or middle schools, or both and (2) is linked to State and national standards intended to enable all students to meet challenging expectations, and to improving student and school performance.

Rationale: The Arts in Education Model Development and Dissemination program seeks to address the lack of high-quality, research-based arts education programs by encouraging partnerships of arts and education specialists to enhance, expand, and document effective models for improving arts education and student achievement, including performance on State or local standardized tests. The program seeks to provide more communities with solid information regarding innovative models for effectively strengthening arts instruction, improving students' skills in creating, performing, and responding to works of art, and increasing student achievement in other academic subjects. By proposing that projects serve students in elementary or middle schools only, we intend for this program to provide a vehicle for including arts instruction in the core curriculum of elementary and middle schools in a seamless manner. Unlike high schools, elementary and most middle schools do not have separate art classes in their curriculum.

Requirements

Proposed Application Requirement

We propose the following application requirement for this program:

To be eligible for Arts in Education Model Development and Dissemination funds, applicants must propose to address the needs of low-income children by carrying out projects that serve at least one elementary or middle school in which 35 percent or more of the children enrolled are from low-income families (based on data used in meeting the poverty criteria set out in Title I, Section 1113(a)(5) of the Elementary and Secondary Education Act of 1965, as amended by the No Child Left Behind Act of 2001 (ESEA)).

Rationale: Studies have found that improving the quality of arts education has a particularly positive impact on students from low-income backgrounds. Unfortunately, students from low socioeconomic backgrounds are almost twice as likely to attend arts-poor schools. We propose this application requirement in an attempt to address the needs of low-income children.

Proposed Eligibility Requirement

We propose the following eligibility requirement for this program:

To be eligible to receive funding under the Arts in Education Model Development and Dissemination program, an applicant must be:

(1) One or more LEAs, including charter schools that are considered LEAs under State law and regulations, that may work in partnership with one or more of the following:

• A State or local non-profit or governmental arts organization,

• A State educational agency (SEA) or regional educational service agency,

• An institution of higher education, or

• A public or private agency, institution, or organization, such as a community- or faith-based organization; or

(2) One or more State or local non-profit or governmental arts organizations that must work in partnership with one or more LEAs and may partner with one or more of the following:

• An SEA or regional educational service agency,

• An institution of higher education, or

• A public or private agency, institution, or organization, such as a community- or faith-based organization.

Note: If more than one LEA or arts organization wishes to form a consortium and jointly submit a single application, they must follow the procedures for group applications described in 34 CFR 75.127 through 34 CFR 75.129 of the Education Department General Administrative Regulations.

Rationale: The statute encourages collaborative activities with Federal agencies or institutions involved in arts education, arts educators, and organizations representing the arts, including State and local arts agencies involved in arts education. Prior competitions under this program have been open to applications from a variety of public and private education and arts organizations. We have received feedback from stakeholders that collaborative programs are being effectively managed by such entities. In addition, various types of organizations are in positions to effectively manage and evaluate model arts integration programs that serve needy school children.

Definitions

Proposed Definitions

Several important terms associated with this program are not defined in the authorizing statute. We, therefore, propose, for the purpose of this program, to define the following terms:

Arts includes music, dance, theater, media, and visual arts, including folk arts.

Integrating means (i) encouraging the use of high-quality arts instruction in other academic/content areas and (ii) strengthening the place of the arts as a core academic subject in the school curriculum.

Based on research, when used with respect to an activity or a program, means that, to the extent possible, the activity or program is based on the most rigorous theory, research, and evaluation available and is effective in improving student achievement and performance and other program objectives.

Executive Order 12866

This notice of proposed priority, requirements, and definitions has been reviewed in accordance with Executive Order 12866. Under the terms of the order, we have assessed the potential costs and benefits of this regulatory action.

The potential costs associated with the notice of proposed priority, requirements, and definitions are those resulting from statutory requirements and those we have determined as necessary for administering this program effectively and efficiently.

In assessing the potential costs and benefits—both quantitative and qualitative—of this notice of proposed priority, requirements, and definitions, we have determined that the benefits of the proposed priority, requirements, and definitions justify the costs.

We also have determined that this regulatory action does not unduly interfere with State, local, and tribal governments in the exercise of their governmental functions.

Summary of Potential Costs and Benefits

The potential costs associated with the proposed priority, requirements, and definitions in this notice are minimal while the benefits are significant. Grantees may incur some costs associated with completing the application process in terms of staff and partner time, copying, and mailing or delivery.

The benefit of the proposed priority, requirements, and definitions in this notice is that grants supported under this program will be able to provide information on effective models. This information will be helpful to schools and communities looking for guidance on how to improve the educational performance of at-risk children and youth by providing arts education services and programs—especially programs incorporating arts education standards.

Intergovernmental Review

This program is subject to Executive Order 12372 and the regulations in 34 CFR part 79. One of the objectives of the Executive Order is to foster an intergovernmental partnership and a strengthened federalism. The Executive Order relies on processes developed by State and local governments for coordination and review of proposed Federal financial assistance.

This document provides early notification of our specific plans and action for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO) toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.351D Arts in Education Model Development and Dissemination)

Program Authority: 20 U.S.C. 7271.

Dated: January 7, 2005.
Nina Shokraii Rees,
Assistant Deputy Secretary for Innovation and Improvement.

[FR Doc. E5-122 Filed 1-12-05; 8:45 am]

BILLING CODE 4000-01-P